DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the Report of Changes That May Affect Your Black Lung Benefits (CM-929).

DATES: Written comments must be submitted to the office listed in the addressee section below by April 29, 2002.

ADDRESSES: Ms. Patricia A. Forkel, U.S. Department of Labor, 200 Constitution Ave., NW., Room S-3201, Washington, DC 20210, telephone (202) 693-0339 (this is not a toll-free number), fax (202) 693-1451, e-mail pforkel@fenix2.dol-esa.gov.

SUPPLEMENTARY INFORMATION:

I. Background

The Federal Coal Mine Safety and Health Act of 1977, as amended, 30 U.S.C. 936, 30 U.S.C. 941, and 20 CFR 725.633(g) provides for the reporting of certain changes which may affect a coal miner beneficiary's black lung benefits. The CM-929 is designed for this use. The form is provided to the beneficiary to review and to certify that income, marital and dependent status information contained in the files is current, or to provide updated information.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions

The Department of Labor seeks approval for the extension of this information collection in order to carry out its responsibility to verify the accuracy of information in the beneficiary's claims file, and to identify changes in the beneficiary's status, to ensure that the amount of compensation being paid the beneficiary is accurate.

Type of Review: Extension.

Agency: Employment Standards Administration.

Title: Report of Changes That May Affect Your Black Lung Benefits.

OMB Number: 1215-0084.

Agency Number: CM-929.

Affected Public: Individuals or households.

Frequency: Biennially.

Total Respondents/Responses: 25,000.

Time per Response: 5-8 minutes.

Estimated Total Burden Hours: 2,375.

Total Burden Cost (capital/startup): $0.

Total Burden Cost (operating/maintenance): $0.

Comments submitted in response to this notice will be summarized and/or included in the request for Office of Management and Budget approval of the information collection request; they will also become a matter of public record.

Dated: February 15, 2002.
Margaret J. Sherrill,
Chief, Branch of Management, Review, and Internal Control, Chief, Division of Financial Management, Office of Management, Administration and Planning, Employment Standards Administration.

[FR Doc. 02-4795 Filed 2-27-02; 8:45 am]

BILLING CODE 4510-CK-P